COMMISSION ON CIVIL RIGHTS

Agenda and Notice of Public Meeting of the Maine Advisory Committee

Notice is hereby given, pursuant to the provisions of the rules and regulations of the U.S. Commission on Civil Rights, that a community forum of the Maine Advisory Committee will convene at 2:30 p.m. and adjourn at 6:30 p.m., on Tuesday, April 6, 2004, in the Luther Bonney Auditorium on the main floor of the Luther Bonney Hall, University of Southern Maine, 96 Falmouth Street, Portland, Maine. The purpose of the community forum is to address post-9/11 civil rights issues in Maine related to racial and ethnic profiling and harassment.

Persons desiring additional information should contact Aonghas St-Hilaire of the Eastern Regional Office, 202-376-7533 (TTY 202-376-8116). Hearing impaired persons who will attend the meeting and require the services of a sign language interpreter should contact the Eastern Regional Office at least 10 (ten) working days before the scheduled date of the community forum.

The community forum will be conducted pursuant to the provisions of the rules and regulations of the Commission.

Dated in Washington, DC, March 12, 2004.
Ivy L. Davis,
Chief, Regional Programs Coordination Unit.

[FR Doc. 04-6134 Filed 3-17-04; 8:45 am]

BILLING CODE 6335-01-P